UTAH RECLAMATION MITIGATION AND CONSERVATION COMMISSION

43 CFR Part 10000

Place of Business Location Change

AGENCY: Utah Reclamation Mitigation and Conservation Commission.

ACTION: Final rule.

SUMMARY: The Utah Reclamation Mitigation and Conservation Commission (Commission) is updating its regulations to reflect a change of agency location. The Commission has moved from 111 East Broadway, Suite 310 to 230 South 500 East, Suite 230 in Salt Lake City, Utah.

DATES: This rule is effective June 6, 2016.

FOR FURTHER INFORMATION CONTACT: Diane Simmons at 801-524-3146, or email to dsimmons@usbr.gov.

SUPPLEMENTARY INFORMATION:

I. Background

The Utah Reclamation Mitigation and Conservation Commission is an independent Federal agency established by the Central Utah Project Completion Act of 1992. The Act set terms and conditions for completing the Central Utah Project, which diverts stores and delivers large quantities of water from numerous Utah rivers to meet the needs of central Utah's citizens. The Commission is responsible for planning, funding, and implementing projects that benefit fish, wildlife, and related recreation resources in order to offset impacts caused by the Central Utah Project, and other Federal water reclamation projects in Utah. The Commission meets publicly to consider and act on agreements to carry out mitigation projects with various partners, including State and Federal natural resource agencies and non-profit groups. The Commission has relocated its place of business to 230 South 500 East, Suite 230 in Salt Lake City, Utah 84102-2045. This rule updates the agency location where it is referenced in 43 CFR 10000.7(a).

II. Procedural Requirements

A. Determination To Issue Final Rule Effective in Less Than 30 Days

The Commission has determined that the public notice and comment provisions of the Administrative Procedure Act, 5 U.S.C. 553(b), do not apply to this rulemaking. Because updating the agency's address is a matter of “agency organization, procedure, and practice,” it is exempt from notice and comment rulemaking under 5 U.S.C. 553(b)(3)(A). The Commission has also determined that there is good cause to waive the requirement of publication 30 days in advance of the rule's effective date under 5 U.S.C. 553(d)(3). The public benefits from having the regulations reflect the agency's correct physical address so it has accurate information on how to contact the agency. The use of the incorrect address could result in correspondence not reaching the agency.

B. Review Under Procedural Statutes and Executive Orders

The Commission has determined that making changes to its regulations to reflect its correct address does not trigger any requirements under the procedural statutes and Executive Orders that govern rulemaking procedures.

List of Subjects in 43 CFR Part 10000

Organization and functions.

For the reasons set forth in the preamble, under the authority of 5 U.S.C. 552 and section 301(g)(3)(A) of the Central Utah Project Completion Act, amend part 10000 of Chapter III of title 43 of the Code of Federal Regulations as follows:

PART 10000—ORGANIZATION AND FUNCTIONS

1. The authority citation for part 10000 continues to read as follows:

Authority: 5 U.S.C. 551 et seq.; 43 U.S.C. 620k(note); Sec. 301(g)(3)(A) of Public Law 102-575, 106 Stat. 4600, 4625.

2. In § 10000.7, revise the first sentence of paragraph (a) to read as follows:

§ 10000.7 Place of business; service of process.

(a) The principle place of business and offices of the agency are located at 230 South 500 East, Suite 230, Salt Lake City, Utah 84102-2045. * * *

* * * * *

Dated: May 26, 2016.
Mark A. Holden,
Executive Director.

[FR Doc. 2016-13215 Filed 6-3-16; 8:45 am]

BILLING CODE 4310-05-P